FEDERAL ELECTION COMMISSION

Sunshine Act Notices

Date and Time: Tuesday, July 15, 2008 at 2 p.m.

Place: 999 E Street, NW., Washington, DC.

Status: This meeting will be closed to the public.

Items To Be Discussed:

Compliance matters pursuant to 2 U.S.C. 437g.

Audits conducted pursuant to 2 U.S.C. 437g, 438(b), and Title 26, U.S.C.

Matters concerning participation in civil actions or proceedings or arbitration. Internal personnel rules and procedures or matters affecting a particular employee.

Person To Contact For Information: Mr. Robert Biersack, Press Officer, Telephone: (202) 694-1220.

Mary W. Dove,
Secretary the Commission.

[FR Doc. E8-16182 Filed 7-16-08; 8:45 am]

BILLING CODE 6715-01-M